DEPARTMENT OF THE INTERIOR

National Park Service

Notice of Request for Reinstatement, With Change, of a Previously Approved Information Collection

AGENCY: National Park Service, DOI.

ACTION: Notice and request for comments.

SUMMARY: This notice announces that the National Park Service's (NPS') intention to request from the Office of Management and Budget (OMB) a reinstatement of, and revisions to, a previously approved information collection for certain activities related to 36 CFR Part 61. The title of 36 CFR Part 61 is Procedures for State, Tribal, and Local Government Historic Preservation Programs. NPS has based the proposed revisions on a fresh analysis of existing requirements for responding and record keeping in certain elements of State and local historic preservation programs. NPS is publishing this notice in accordance with the Paperwork Reduction Act of 1995 (44 U.S.C. 3507 et seq.) and OMB rules (5 CFR Part 1320).

DATES: NPS must receive comments concerning this notice by January 2, 2001 to assure their consideration.

ADDRESSES: Send comments on this information collection to:

Mr. John W. Renaud, Project Coordinator, Branch of State, Tribal, and Local Programs Heritage Preservation Services, National Park Service, U.S. Department of the Interior, 1849 C St., NW, NC 200, Washington, DC 20240 or via e-mail at John_Renaud@nps.gov.

FOR FURTHER INFORMATION CONTACT: Mr. John W. Renaud, Project Coordinator, Branch of State, Tribal, and Local Programs, Heritage Preservations Services Division, National Park Service, U.S. Department of the Interior, P.O. Box 37127, Washington, DC 20013-7127, (202) 343-1059, John_Renaud@nps.gov.

SUPPLEMENTARY INFORMATION: Title: 36 CFR Part 61, Procedures for State, Tribal, and Local Government Historic Preservation Programs.

OMB Number: 1024-0038.

Type of Request: Reinstatement, with change, of a previously approved collection for which approval has expired.

Abstract: This information collection has an impact on State, Tribal, and local governments that wish to participate formally in the national historic preservation program and who wish to apply for Historic Preservation Fund grant assistance. The National Park Service uses the information to ensure compliance with the National Historic Preservation Act and government-wide grant requirements.

Respondents/Record Keepers: State, Tribal, and Local Governments.

Estimate of Burden: NPS estimates that the public reporting burden for this collection of information will average 9.06 hours per response and 0.60 hours per record, including the time for reviewing instructions, searching existing data sources, gathering and maintaining the data needed and reviewing the collection of information.

Estimated Number of Respondents/Record Keepers: NPS estimates that there are 450 respondents and 83 record keepers. This is the gross number of respondents and record keepers for all of the documents included in this information collection. The net number of States, Tribal, and local governments participating in this information collection annually is 136. The frequency of response varies depending upon activity. States complete Grant application and end-of-year report documents once a year. NPS requires project documents at the beginning and end of each subgrant with a large Federal share. NPS reviews each State's program once every four years. NPS requires information from a local government when it applies for certification. NPS requires that each State maintain one record for each property in its inventory and one record per project for tracking its responses to Federal agency requests for State review. Pursuant to Section 101(d) of the National Historic Preservation Act, federally recognized Indian Tribes, after agreement with the National Park Service (NPS), may assume responsibilities specified in Section 101(b)(3) and therefore use related information collections.

Estimated Number of Responses per Respondent: 1.

Estimated Number of Records per Record Keeper: 350.

Estimated Total Annual Burden on Respondents: 4,078 hours.

Estimated Total Annual Burden on Record Keepers: 17,430 hours.

Estimated Total Annual Burden: 21,508 hours.

You may obtain copies of this information collection from Mr. John W. Renaud, Project Coordinator.

NPS is soliciting comments regarding:

(1) Whether the collection of information is necessary for the proper performance of the functions of NPS, including whether the information will have practical utility;

(2) The accuracy of the burden estimate including the validity of the method and assumptions used;

(3) The quality, utility, and clarity of the information to be collected;

(4) Ways to minimize the burden, including through the use of automated collection or other forms of information technology; or,

(5) Any other aspect of this collection of information.

All responses to this notice will be summarized and included in the request for OMB approval. All comments will also become a matter of public record.

Dated: October 25, 2000.
Leonard E. Stowe,
Information Collection Clearance Officer, National Park Service.

[FR Doc. 00-27840 Filed 10-30-00; 8:45 am]

BILLING CODE 4310-70-M